FEDERAL MINE SAFETY AND HEALTH REVIEW COMMISSION

Sunshine Act Meeting; Change in Meeting Time and Date

PREVIOUSLY ANNOUNCED TIME AND DATE: 2 p.m., Tuesday, December 12, 2000.

PLACE: Room 6005, 6th Floor, 1730 K Street, NW., Washington, DC.

CHANGES IN THE MEETING: The time and date of the Commission meeting to consider and act upon Disciplinary Proceeding, Docket No. D 2000-1, has been changed to commence following upon the conclusion of the Commission meeting starting at 10 a.m., December 13, 2000, to consider the Commission's general procedures for handling requests to vacate defaults. No earlier announcement of these changes was possible.

CONTACT PERSON FOR MORE INFO: Jean Ellen, (202) 653-5629/(202) 708-9300 for TDD Relay/1-800-877-8339 for toll free.

Jean H. Ellen,
Chief Docket Clerk.

[FR Doc. 00-32258 Filed 12-14-00; 12:22 pm]

BILLING CODE 6735-01-M